FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

Ameri Ocean Worldwide Lines, Limited Liability Company (NVO), 1040 North Avenue, Elizabeth, NJ 07201; Officer: Fahmi Eriba, Sole Member; (Qualifying Individual), Application Type: New NVO License.

Alliance Logistics Group Corp. (NVO), 17823 Evelyn Avenue, Gardena, CA 90248; Officers: Christian D. Ortiz, Dir/Pres/CEO/Treas/CFO; (Qualifying Individual), Iris Ortiz, Director/Secretary, Application Type: New NVO License.

ASF Advantage, L.L.C. (NVO & OFF), 330 Marshall Street, #400, Shreveport, LA 71101; Officers: Ron Stalvey, Operations Officer, (Qualifying Individual); Brian P. Barker, Member, Application Type: QI Change.

Encargo Export Corporation dba Encargo Logistics, dba Encargo Lines (NVO & OFF), 10800 NW 103 Street, Suite 5-E, Medley, FL 33178; Officers: Alberto Paniagua, President, (Qualifying Individual); Carlos J. Nadal, Vice President; Application Type: New NVO & OFF License.

Global Relogistics, Inc. dba Yacht Exports (NVO), 5337 Orange Drive, Davie, FL 33314; Officer: Alon Ezra, President/Secretary, (Qualifying Individual); Application Type: Trade Name Change.

Global Tradewind NVOCC, Inc. (NVO), 3532 Katela Avenue, Suite 227, Los Alamitos, CA 90720; Officer: Fiona M. Hooks, President/CFO, (Qualifying Individual); Ronald Mundwiller, Secretary, Application Type: New NVO License.

IJS Global Inc. (NVO & OFF), 2600 Main St. Extension, 2nd Floor, Sayreville, NJ 08872; Officers: Tina J. Okragly, President, (Qualifying Individual); Kevin C. Hartnett, Director, Application Type: QI Change.

King Solutions, Inc. (NVO & OFF), 11011 Holly Lane North, Dayton, MN 55369, Officers: William S. Panzarella, VP of International Development, (Qualifying Individual); Michael Patterson, CEO/CFO/Secretary, Application Type: New NVO & OFF.

Mira Transport USA, Inc. dba Mira Express (NVO & OFF), 16 Pershing Street, Staten Island, NY 10305; Officers: Veronica Cairns, President/Secretary/Treasurer, (Qualifying Individual); Serhat Dagtas, Vice President, Application Type: Add NVO Service.

NGL International, LLC (OFF), 2121 Abbott Road, Anchorage, AK 99507; Officers: Raymond P. Donahue, Executive Vice President, (Qualifying Individual); John Witte, Member, Application Type: New OFF License.

Royal International Shipping, Inc. (OFF), 5900 Roche Drive, Columbus, OH 43229; Officers: Klyde R. Edor, President/Treasurer, (Qualifying Individual); Lora S. Edor, Vice President/Secretary, Application Type: New OFF License.

Sea Freight Logistics, Inc. (NVO), Lote 5 B1 Calle Gildita, La Ceramica Ind. Park, Carolina, PR 00984; Officers: Carlos E. Urrutia, President, (Qualifying Individual); Ramon F. Sanabria, Treasurer, Application Type: New NVO License.

South Atlantic Logistics LLC (OFF), 891 Newark Avenue, Elizabeth, NJ 07208; Officer: Samuel Soremekun, Managing Member/Managing Director, (Qualifying Individual); Application Type: New OFF License.

White Horse Logistics, Inc. (NVO), 1419 NW 84th Avenue, Miami, FL 33126; Officers: Donald Oberfield, Vice President/Secretary, (Qualifying Individual); Peter Markson, President, Application Type: New NVO License.

Dated: November 23, 2011.
Karen V. Gregory,
Secretary.

[FR Doc. 2011-30803 Filed 11-29-11; 8:45 am]

BILLING CODE 6730-01-P